FEDERAL COMMUNICATIONS COMMISSION

47 CFR Part 36

[CC Docket No. 80-286; DA 00-2433]

Comment Sought on Recommended Decision Issued by Federal-State Joint Board on Jurisdictional Separations

AGENCY: Federal Communications Commission.

ACTION: Proposed rules; solicitation of comments.

SUMMARY: This document seeks comment on the Federal-State Joint Board on Jurisdictional Separations' Recommended Decision for instituting an interim freeze of the relationships and jurisdictional allocation factors.

DATES: Submit comments on or before November 24, 2000, and reply comments on or before December 4, 2000.

ADDRESSES: See Supplementary Information section for where and how to file comments.

FOR FURTHER INFORMATION CONTACT: William Cox, (202) 418-7400; TTY: (202) 418-0484.

SUPPLEMENTARY INFORMATION: The full text of this document is available for public inspection and copying during regular business hours at the FCC Reference Information Center, Portals II, 445 12th Street, SW., Room CY-A257, Washington, DC, 20554. This document may also be purchased from the Commission's copy contractor, International Transcription Service, Inc. (ITS), 1231 20th Street, NW., Washington, DC 20036, telephone 202-857-3800, facsimile 202-857-3805.

On July 21, 2000, the Federal-State Joint Board on Jurisdictional Separations (Joint Board) released a Recommended Decision for instituting an interim freeze of the part 36 category relationships and jurisdictional allocation factors. On August 15, 2000, we released a public notice, similar to this Public Notice, that sought comment on the Recommended Decision. The Aug. 15 Public Notice inadvertently was not published in the Federal Register. In order to provide adequate notice to interested parties, we now release this Public Notice seeking comment on the Recommended Decision. Parties who have already filed comments in response to the Aug. 15 Public Notice need not refile their comments.

The Joint Board recommended that the Commission institute a five-year freeze of all part 36 category relationships and allocation factors for price cap carriers, and a freeze of the allocation factors for rate-of-return carriers. The Joint Board recommended that the Commission adopt a freeze based on carriers' data from the twelve months prior to the Commission's issuance of an order on the Recommended Decision. The Joint Board further recommended that the freeze should be mandatory and apply to all carriers subject to the Commission's part 36 rules. The Joint Board recommended that the freeze remain in effect for five years, or until the Commission takes further action pursuant to a recommendation from the Joint Board, whichever occurs first. During the interim freeze period, the Joint Board recommended that the Joint Board and the Commission continue to review issues regarding separations reform, as specified in the Recommended Decision. We seek comment on the Joint Board's recommendations.

The Joint Board also recommended that the Commission further develop the record in this proceeding on the impact of increased intrastate usage on jurisdictional allocations and consumers since 1995. Accordingly, we seek comment on the impact of increased intrastate usage since 1995 on jurisdictional allocations and consumers. The Joint Board noted that one possible explanation for the increase in intrastate usage is the growth in the use of the local network to connect to the Internet since 1995. As a result, we seek comment on the impact of Internet traffic growth on jurisdictional allocations since 1995. We request that companies provide specific information on Internet usage minutes, including the percentage of local minutes and total minutes that represent Internet traffic. This usage information should include data from Internet service providers both affiliated and non-affiliated with incumbent local exchange carriers. If estimates are used in determining these statistics, we request that commenters provide detailed explanation and justification for these estimates and their underlying assumptions, including all studies and related work papers.

The Joint Board recommended that, if the Commission finds that Internet traffic is jurisdictionally interstate in the proceeding that has been initiated as a result of the remand by the United States Court of Appeals for the DC Circuit on the Commission's Reciprocal Compensation Ruling, 64 FR 14203, March 24, 1999, the Commission freeze the local dial equipment minutes (DEM) factor for the duration of the freeze at some substantial portion of the current year level based on data from the twelve months preceding the implementation of the freeze. The Joint Board recommended that, based on the record established in connection with the Recommended Decision, the precise percentage of the current year's local DEM should be established according to how much of a reduction in local DEM is warranted in light of any effects that Internet usage has had on jurisdictional allocations or consumers. We seek comment on this recommendation.

Procedures for Filing Comments

Pursuant to §§ 1.415 and 1.419 of the Commission's rules, interested parties may file comments on or before November 24, 2000, and reply comments on or before December 4, 2000. Comments may be filed using the Commission's Electronic Comment Filing System (ECFS) or by filing paper copies. See Electronic Filing of Documents in Rulemaking Proceedings, 63 FR 24121, May 1, 1998. Comments filed through the ECFS can be sent as an electronic file via the Internet to ­<http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. All filings must be sent to the Commission's Secretary, Magalie Roman Salas, Office of the Secretary, Federal Communications Commission, 445 12th Street, SW., Washington, DC 20554.

Parties also must send paper copies of their filings to the individuals listed in the attached Service List. Parties must send three paper copies of their filing to Sheryl Todd, Accounting Policy Division, Common Carrier Bureau, Federal Communications Commission, 445 Twelfth Street SW., Room 5-B540, Washington, DC 20554. In addition, commenters must send diskette copies to the Commission's copy contractor, International Transcription Service, Inc., 1231 20th Street, NW., Washington, DC 20037.

Pursuant to § 1.1206 of the Commission's rules, this proceeding will be conducted as a permit-but-disclose proceeding in which ex parte communications are permitted subject to disclosure.

Separations Joint Board Service List

The Honorable William E. Kennard, Chairman, Federal Joint Board Chairman, Federal Communications Commission, 445 12th Street, SW., Washington, DC 20554.

The Honorable Susan Ness, Commissioner, Federal Communications Commission, 445 12th Street, SW., Washington, DC 20554.

The Honorable Michael K. Powell, Commissioner, Federal Communications Commission, 445 12th Street, SW., Washington, DC 20554.

The Honorable Joseph P. Mettner, Commissioner, Wisconsin Public Service Commission, P.O. Box 7854, Madison, WI 53707-7854.

The Honorable Diane Munns, Commissioner, Iowa Utilities Board, 350 Maple Street, Des Moines, IA 50319-0069.

The Honorable Joan H. Smith, Commissioner, Oregon Public Utility Commission, 550 Capitol Street, NE., Suite 215, Salem, OR 97310-2551.

The Honorable Thomas L. Welch, Chairman, State Joint Board Chairman, Maine Public Utilities Commission, State House Station #18, 242 State Street, Augusta, ME 04333.

Stephen Burnett, Federal Communications Commission, Common Carrier Bureau, Accounting Policy Division, 445 12th Street, SW., Washington, DC 20554.

William Cox, Federal Joint Board Staff Chairman, Federal Communications Commission, Common Carrier Bureau, Accounting Policy Division, 445 12th Street, SW., Washington, DC 20554.

Andrew Firth, Federal Communications Commission, Common Carrier Bureau, Accounting Policy Division, 445 12th Street, SW., Washington, DC 20554.

Genaro Fullano, Federal Communications Commission, Common Carrier Bureau, Accounting Policy Division, 445 12th Street, SW., Washington, DC 20554.

Robert Loube, Federal Communications Commission, Common Carrier Bureau, Accounting Policy Division, 445 12th Street, SW., Washington, DC 20554.

Richard Robinson, Federal Communications Commission, CCB, Accounting Safeguards Division, 445 12th Street, SW., Room 6-C160, Washington, DC 20552.

Gary Seigel, Federal Communications Commission, Common Carrier Bureau, Accounting Policy Division, 445 12th Street, SW., Washington, DC 20554.

Sheryl Todd, Federal Communications Commission, Common Carrier Bureau, Accounting Policy Division, 445 12th Street, SW., Room 5-B540, Washington, DC 20554.

Sharon Webber, Deputy Division Chief, Federal Communications Commission, Common Carrier Bureau, Accounting Policy Division, 445 12th Street, SW., Washington, DC 20554.

Peter Bluhm, Vermont Public Service Board, Drawer 20, 112 State St., 4th Floor, Montpelier, VT 05620-2701.

Ingo Henningsen, Utah Public Service Commission, 160 East 300 South, Box 146751, Salt Lake City, UT 84114-6751.

Sandy Ibaugh, Indiana Utility Regulatory Commission, 302 W. Washington, Suite E-306, Indianapolis, IN 46204.

Lori Kenyon, Regulatory Commission of Alaska, 1016 West 6th Ave., Suite 400, Anchorage, AK 99501-1963.

David Lynch, State Joint Board Staff Chairman, Iowa Utilities Board, 350 Maple Street, Des Moines, IA 50319-0069.

J. Bradford Ramsay, National Association of Regulatory Utility Commissioners, P.O. Box 684, Washington, DC 20044-0683.

Jeffrey J. Richter, Wisconsin Public Service Commission, 610 North Whitney Way, Madison, Wisconsin 53705-2729.

Joel B. Shifman, Maine Public Utilities Commission, State House Station #18, 242 State Street, Augusta, ME 04333.

Fred Sistarenik, New York State Department of Public Service, Communications Division, 3 Empire State Plaza, Albany, NY 12223.

Cynthia Van Landuyt, Oregon Public Utility Commission, 550 Capitol Street, N.E., Suite 215, Salem, OR 97310-2551.

Dated: November 2, 2000
Sharon L. Webber,
Deputy Chief, Accounting Policy Division.

[FR Doc. 00-28606 Filed 11-8-00; 8:45 am]

BILLING CODE 6712-01-P